DEPARTMENT OF HOUSING AND URBAN DEVELOPMENT

[Docket No. FR-7050-N-23; OMB Control No.: 2528-0029]

30-Day Notice of Proposed Information Collection: Manufactured Housing Survey

AGENCY: Office of Policy Development and Research, Chief Data Officer, HUD.

ACTION: Notice.

SUMMARY: The proposed information collection requirement described below will be submitted to the Office of Management and Budget (OMB) for review, as required by the Paperwork Reduction Act. The Department is soliciting public comments on the subject proposal.

DATES: Comments Due Date: June 27, 2022.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov. Persons with hearing or speech impairments may access this number through TTY by calling the toll-free Federal Relay Service at (800) 877-8339.

FOR FURTHER INFORMATION CONTACT: Anna P. Guido, Reports Management Officer, REE, Department of Housing and Urban Development, 451 7th Street SW, Washington, DC 20410; email her at Anna.P.Guido@hud.gov or telephone 202-402-5535. This is not a toll-free number. Copies of available documents submitted to OMB may be obtained from Ms. Guido.

SUPPLEMENTARY INFORMATION: This notice informs the public that HUD has submitted to OMB a request for approval of the information collection described in Section A. The Federal Register notice that solicited public comment on the information collection for a period of 60 days was published on March 11, 2022, at 87 FR 14028.

A. Overview of Information Collection

Title of Information Collection: Manufactured Housing Survey.

OMB Approval Number: 2528-0029.

Type of Request: Extension of a currently approved collection.

Form Number: C-MH-9A.

Description of the need for the information and proposed use: The Manufactured Housing Survey collects data monthly on the characteristics of newly manufactured homes placed for residential use. Key data collected includes sales price and the number of units placed and sold. A letter is sent to the dealer—4 months after the—shipment date. Other selected housing characteristics collected include size, location, and titling. HUD uses the statistics to respond to a Congressional mandate in the Housing and Community Development Act of 1980, 42 U.S.C. 5424 note, which authorizes HUD to use its discretion to take actions necessary ensure that the public is fully aware of the distinctions between the various types of manufactured housing. Accordingly, HUD collects, and reports manufactured home sales and price information for the nation, census regions, states, and selected metropolitan areas and monitors whether new manufactured homes are being placed on owned rather than rented lots. HUD also used these data to monitor total housing production and its affordability.

Furthermore, the Manufactured Housing Survey serves as the basis for HUD's mandated indexing of loan limits. Section 2145(b) of the Housing and Economic Recovery Act of 2008 (HERA), Public Law 110-289, 122 Stat. § 2844-2845, requires HUD to develop a method of indexing to annually adjust Title I manufactured home loan limits. This index is based on manufactured housing price data collected by—the United States Census Bureau using this survey. Section 2145(b) of the Housing and Economic Recovery Act of 2008 (HERA), Public Law 110-289, 122 Stat. § 2844-2845 also amends the maximum loan limits for manufactured home loans insured under Title I.

In Title I Letter TI-480, HUD implemented the revised loan limits, as shown below, for all manufactured home loans for which applications are received on or after March 3, 2009.

Loan type | Purpose | Old loan limit | New loan limit
Manufactured Home Improvement Loan | For financing alterations, repairs and improvements upon or in connection with existing manufactured homes | $17,500 | $25,090
Manufactured Home Unit(s) | To purchase or refinance a Manufactured Home unit(s) | 48,600 | 69,678
Lot Loan | To purchase and develop a lot on which to place a manufactured home unit | 16,200 | 23,226
Combination Loan for Lot and Home | To purchase or refinance a manufactured home and lot on which to place the home | 4,800 | 92,904

Method of Collection

The methodology for collecting information on new manufactured homes involves contacting dealers from a monthly sample of new manufactured homes shipped by manufacturers. The units are sampled from lists obtained from the Institute for Building Technology and Safety. A file of all manufactured homes sections shipped during the month is provided to the Census Bureau by the Institute for Building Technology and Safety (IBTS) on a monthly basis. Dealers that take shipment of the selected homes are mailed a survey form four months after shipment for recording the status of the manufactured home.

Information collection | Number of respondents | Frequency of response | Responses per annum | Burden hour per response | Annual burden hours | Hourly cost per response | Annual cost
Manufactured Housing Survey | 4,860 | 1 | 4,860 | .33 | 1,603.80 | $31.45 | $50,439.51
Total | 4,860 |  |  |  | 1,603.80 |  | 50,439.51

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of esponses. HUD encourages interested parties to submit comment in response to these questions.

C. Authority

Section 3507 of the Paperwork Reduction Act of 1995, 44 U.S.C. Chapter 35.

Anna P. Guido,
Department Reports Management Officer, Office of the Chief Data Officer.

[FR Doc. 2022-11414 Filed 5-26-22; 8:45 am]

BILLING CODE 4210-67-P